INTERNATIONAL TRADE COMMISSION

[Investigation No. 731-TA-747 (Review)]

Fresh Tomatoes From Mexico

AGENCY: International Trade Commission.

ACTION: Termination of review.

SUMMARY: On July 30, 2002, the Department of Commerce terminated its review of the suspended investigation on fresh tomatoes from Mexico (67 FR 50858, August 6, 2002). The basis for the termination is the withdrawal from the suspension agreement by Mexican tomato growers which account for a significant percentage of all fresh tomatoes imported into the United States from Mexico. Because the suspension agreement no longer covers substantially all imports of fresh tomatoes from Mexico, the Department of Commerce terminated the suspension agreement, terminated the review, and resumed the antidumping investigation. Accordingly, the U.S. International Trade Commission gives notice of the termination of its review involving imports from Mexico of fresh tomatoes, provided for in subheadings 0702.00 and 9906.07.01 through 9906.07.09 of the Harmonized Tariff Schedule of the United States.

EFFECTIVE DATE: July 30, 2002.

FOR FURTHER INFORMATION CONTACT: Elizabeth Haines (202-205-3200), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS-ON-LINE) at http://dockets.usitc.gov/eol/public.

Authority: This review is being terminated under authority of title VII of the Tariff Act of 1930; this notice is published pursuant to section 207.40 of the Commission's rules (19 CFR 207.40).

Issued: August 12, 2002.
By order of the Commission.
Marilyn R. Abbott,
Secretary to the Commission.

[FR Doc. 02-20728 Filed 8-14-02; 8:45 am]

BILLING CODE 7020-02-P